DEPARTMENT OF TRANSPORTATION

Federal Railroad Administration

Petition for Waivers of Compliance

In accordance with 49 CFR 211.9 and 211.41, notice is hereby given that the Federal Railroad Administration (FRA) has received a request for a waiver of compliance with certain requirements of the Federal safety laws and regulations. The petition is described below, including the party seeking relief, the regulatory provisions involved, and the nature of the relief being requested, and the petitioner's arguments in favor of relief.

Canadian National Railway Company

[Waiver Petition Docket Number FRA-2000-8089]

Canadian National Railway Company (CN) seeks an extension of an existing waiver in Docket Number FRA 2000-8089 on behalf of itself and its U.S. affiliates.

CN is North America's fifth largest railroad with 18,300 route miles and approximately 22,000 employees in Canada and the U.S. It operates the largest rail network in Canada and the only transcontinental network in North America. Within the last ten years, CN has integrated operations with Illinois Central, Wisconsin Central, and Great Lakes Transportation rail entities.

CN seeks an extension for an existing waiver in which the FRA has waived compliance with 49 CFR part 231, which specifies the number, location and dimensional specifications for handholds, ladders, sill steps, uncoupling levers and handbrakes, and 49 CFR 231.31 (formerly 232.2), which regulates drawbar height, for CN's use of RoadRailer® equipment.

In a letter dated May 23, 2001, the FRA granted CN approval of their petition FRA-2000-8089 to operate RoadRailer® trains on their railroad property. Since granting of the waiver in 2001, the CN has operated RoadRailer® equipment without incident.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g. Waiver Petition Docket Number 2000-8089) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 665, Number 70; Pages 19477-78). The Statement may also be found at http://dms.dot.gov.

Issued in Washington, DC on July 5, 2006.
Grady C. Cothen, Jr.,
Deputy Associate Administrator for Safety Standards and Program Development.

[FR Doc. E6-10755 Filed 7-10-06; 8:45 am]

BILLING CODE 4910-06-P